DEPARTMENT OF HEALTH AND HUMAN SERVICES

Health Resources and Services Administration

Agency Information Collection Activities: Submission to OMB for Review and Approval; Public Comment Request; The National Health Service Corps and NURSE Corps Interest Capture Form, OMB No. 0915-0337—Extension

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than May 25, 2017.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference, in compliance with Section 3506(c)(2)(A) of the Paperwork Reduction Act of 1995.

Information Collection Request Title: The National Health Service Corps and NURSE Corps Interest Capture Form, OMB No. 0915-0337—Extension.

Abstract: HRSA's Bureau of Health Workforce administers the National Health Service Corps (NHSC) and the NURSE Corps programs, which are committed to improving the health of the underserved by connecting communities in need with health professionals and supporting communities' efforts to build better systems of care. The NHSC and NURSE Corps Interest Capture Form is an optional form that a health profession student, licensed clinician, faculty member, or clinical site administrator may complete to request information regarding opportunities and program updates with the NHSC and/or the NURSE Corps. The form requests information such as name, email, city and state, organization where employed (or the school attending), the year one intends to graduate (if applicable), and how one heard about the NHSC and NURSE Corps programs.

Need and Proposed Use of the Information: The need and purpose of this information collection is to share information regarding the NHSC and NURSE Corps programs with interested individuals.

Likely Respondents: Individuals interested in the NHSC or NURSE Corps programs.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
NHSC and NURSE Corps Programs Interest Capture Form | 2,400 | 1 | 2,400 | .025 | 60
Total | 2,400 |  | 2,400 |  | 60

Jason E. Bennett,
Director, Division of the Executive Secretariat.

[FR Doc. 2017-08298 Filed 4-24-17; 8:45 am]

BILLING CODE 4165-15-P